BUREAU OF CONSUMER FINANCIAL PROTECTION

12 CFR Part 1003

[Docket No. CFPB-2014-0019]

RIN 3170-AA10

Home Mortgage Disclosure (Regulation C)

Correction

In rule document 2015-26607 beginning on page 66128 in the issue of Wednesday, October 28, 2015, make the following corrections:

1. On page 66256, in the second column, in the nineteenth line, “I. Effective Date” should read “VI. Effective Date.”

2. On page 66296, in the third column, in the fourteenth and fifteenth lines, “III. Final Regulatory Flexibility Act Analysis” should read “VIII. Final Regulatory Flexibility Act Analysis”.

3. On page 66305, in the first column, in the 23rd line, “IV. Paperwork Reduction Act” should read “IX. Paperwork Reduction Act”.

[FR Doc. C1-2015-26607 Filed 11-9-15; 8:45 am]

BILLING CODE 1505-01-D